ENVIRONMENTAL PROTECTION AGENCY

[EPA-HQ-OPP-2015-0163; FRL-9952-04]

Amendments, Extensions, and/or Issuances of Experimental Use Permits

AGENCY: Environmental Protection Agency (EPA).

ACTION: Notice.

SUMMARY: EPA has granted amendments, extensions, and/or issuances of experimental use permits (EUPs) to the pesticide applicants described in Unit II. of the SUPPLEMENTARY INFORMATION section. An EUP allows use of a pesticide for experimental or research purposes only in accordance with the limitations in the permit.

FOR FURTHER INFORMATION CONTACT: Robert McNally, Director, Biopesticides and Pollution Prevention Division (7511P), Office of Pesticide Programs, Environmental Protection Agency, 1200 Pennsylvania Ave. NW., Washington, DC 20460-0001; main telephone number: (703) 305-7090; email address: BPPDFRNotices@epa.gov.

SUPPLEMENTARY INFORMATION:

I. General Information

A. Does this action apply to me?

This action is directed to the public in general. Although this action may be of particular interest to those persons who conduct or sponsor research on pesticides, EPA has not attempted to describe all the specific entities that may be affected by this action.

B. How can I get copies of this document and other related information?

The dockets for these actions, identified by the docket identification (ID) numbers as shown in the body of this document, are available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. EUPs

EPA has granted amendments, extensions, and/or issuances of the following EUPs:

1. 88877-EUP-2. (EPA-HQ-OPP-2015-0374). Amendment and Extension. University of Kentucky, Department of Entomology, S-225 Agricultural Science Center North, Lexington, KY 40546-0091. This EUP allows the use of 14,400,000 male Aedes aegypti WB1 Strain mosquitoes weighing 34.032 ounces and containing 34.032 × 10⁻⁵ ounce of the active ingredient Wolbachia pipientis, wAlbB Strain to evaluate the active ingredient's effectiveness in suppressing and eliminating Aedes aegypti mosquitoes. The program is authorized only in the states of California and Florida over 1,549 acres. The EUP is effective from August 30, 2016, to December 31, 2017. EPA received 11 comments that consist of a mix of negative, neutral, and positive comments from private citizens, a company, and a non-governmental organization. EPA's response to these comments can be found in the docket.

2. 91163-EUP-1. (EPA-HQ-OPP-2015-0692). Issuance. Texas Corn Producers Board, 4205 North Interstate 27, Lubbock, TX 79403. This EUP allows the use of 266,000 pounds of formulated pesticide product FourSure™ and approximately 2 pounds of the active ingredients Aspergillus flavus strains TC16F, TC35C, TC38B, and TC46G to evaluate the effectiveness of the atoxigenic active ingredients in FourSure™ in displacing toxigenic (aflatoxin producing) Aspergillus flavus in cornfields. The program is authorized only in the state of Texas over 26,600 acres. The EUP is effective from August 25, 2016, to December 31, 2019, although testing will only occur in 2017, 2018, and 2019. EPA received one negative comment that was anonymous. As the anonymous commenter did not specify any particular safety concern with regard to this EUP's issuance, the comment was not considered further.

Authority: 7 U.S.C. 136 et seq.

Dated: September 16, 2016.
Mark A. Hartman,
Acting Director, Biopesticides and Pollution Prevention Division, Office of Pesticide Programs.

[FR Doc. 2016-24101 Filed 10-4-16; 8:45 am]

BILLING CODE 6560-50-P